NUCLEAR REGULATORY COMMISSION

[Docket No. 52-007]

Exelon Generating Company, LLC; Notice of Availability of the Final Environmental Impact Statement for an Early Site Permit (ESP) at the Exelon ESP Site

Notice is hereby given that the U.S. Nuclear Regulatory Commission (NRC, the Commission) has published NUREG-1815, “Environmental Impact Statement for an Early Site Permit (ESP) at the Exelon ESP Site: Final Report.” The site is located near the town of Clinton in DeWitt County, Illinois. The application for the ESP was submitted by letter dated September 25, 2003, pursuant to Title 10 of the Code of Federal Regulations part 52 (10 CFR Part 52). The application included a site redress plan in accordance with 10 CFR 52.17(c) and 52.25. If the site redress plan is incorporated in an approved ESP, then the applicant may carry out certain site preparation work and preliminary construction activities. A notice of receipt and availability of the application, which included the environmental report (ER), was published in the Federal Register on October 24, 2003 (68 FR 61020). A notice of acceptance for docketing of the application for the ESP was published in the Federal Register on October 30, 2003 (68 FR 61835). A notice of intent to prepare an environmental impact statement and to conduct the scoping process was published in the Federal Register on November 25, 2003 (68 FR 66130). A notice of availability of the draft EIS was published in the Federal Register on March 10, 2005 (70 FR 12022).

The purpose of this notice is to inform the public that NUREG-1815, “Environmental Impact Statement for an Early Site Permit (ESP) at the Exelon ESP Site: Final Report,” Volumes 1 and 2, is available for public inspection in the NRC Public Document Room (PDR) located at One White Flint North, 11555 Rockville Pike (first floor), Rockville, Maryland, 20852, or from the Publicly Available Records (PARS) component of NRC's Agencywide Documents Access and Management System (ADAMS), and will also be placed directly on the NRC Web site at http://www.nrc.gov. ADAMS is accessible from the NRC Web site at http://www.nrc.gov/reading-rm/adams.html (the Public Electronic Reading Room). Persons who do not have access to ADAMS, or who encounter problems in accessing the documents located in ADAMS, should contact the PDR reference staff at 1-800-397-4209, 301-415-4737, or by e-mail to pdr@nrc.gov. In addition, the Vespasian Warner Public Library, located at 310 North Quincy Street, Clinton, Illinois 61727, has agreed to make the FEIS available for public inspection.

For Further Information Contact: Thomas J. Kenyon, New Reactors Environmental Projects Branch, Division of New Reactor Licensing, U.S. Nuclear Regulatory Commission, Washington, DC 20555-0001. Mr. Kenyon may be contacted by telephone at (301) 415-1120 or by e-mail at http://www.ClintonEIS.gov.

Dated at Rockville, Maryland, this 20th day of July 2006.
For the Nuclear Regulatory Commission.
David B. Matthews,
Director, Division of New Reactor Licensing Office of Nuclear Reactor Regulation.

[FR Doc. E6-12075 Filed 7-27-06; 8:45 am]

BILLING CODE 7590-01-P